DEPARTMENT OF ENERGY

Federal Energy Regulatory Commission

[Project No. 2150-082]

Puget Sound Energy, Inc., Notice of Application for Amendment of License and Soliciting Comments, Motions To Intervene, and Protests

August 27, 2010.

Take notice that the following hydroelectric application has been filed with the Commission and is available for public inspection:

a. Type of Application: Amendment of License.

b. Project No.: 2150-082.

c. Date Filed: August 5, 2010.

d. Applicant: Puget Sound Energy, Inc.

e. Name of Project: Baker River Hydroelectric Project.

f. Location: The project is located on the Baker River in Skagit and Whatcom Counties, Washington, and occupies federal lands within the Mt. Baker-Snoqualmie National Forest.

g. Pursuant to: Federal Power Act, 16 U.S.C. 791a-825r.

h. Applicant Contact: Kim William Lane, P.E., Puget Sound Energy, Inc., M/S PSE-09N, P.O. Box 90868, Bellevue, WA 98009-0868. Tel: (425) 462-3372.

i. FERC Contact: Any questions on this notice should be addressed to Vedula Sarma at (202) 502-6190 or vedula.sarma@ferc.gov.

j. Deadline for filing comments and/or motions: September 27, 2010.

Comments, protests, and interventions may be filed electronically via the Internet in lieu of paper. See 18 CFR 385.2001(a)(1)(iii) and the instructions on the Commission's Web site (http://www.ferc.gov/docs-filing/efiling.asp). Commenters can submit brief comments up to 6,000 characters, without prior registration, using the eComment system (http://www.ferc.gov/docs-filing/ecomment.asp) and must include name and contact information at the end of comments. The Commission strongly encourages electronic filings.

All documents (original and seven copies) filed by paper should be sent to: Secretary, Federal Energy Regulatory Commission, 888 First Street, NE., Washington, DC 20426. Please include the project number (P-2150-082) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Application: In its amendment application, the licensee proposes to: (1) Move the project's authorized (but unconstructed) powerhouse to a location about 300 feet southwest of the existing Lower Baker powerhouse, (2) install a single turbine-generator unit (Unit 4) instead of the project's authorized (but unconstructed) two turbine-generator units in the new powerhouse, (3) install a new 1,500 cubic foot per second (cfs) bypass valve in the powerhouse, (4) construct a new penstock tunnel to connect the new powerhouse to the existing surge tank, and (5) construct a new 300-foot-long single circuit 115 kilovolt overhead transmission line to connect the new powerhouse to the existing Lower Baker powerhouse. The proposed single turbine-generator unit would have the same 1,500 cfs hydraulic capacity and the same 30 megawatts installed capacity as the project's currently authorized (but unconstructed) two generating units.

l. Locations of the Application: A copy of the application is available for inspection and reproduction at the Commission's Public Reference Room, located at 888 First Street, NE., Room 2A, Washington, DC 20426, or by calling (202) 502-8371. This filing may also be viewed on the Commission's Web site using the “eLibrary” link at http://elibrary.ferc.gov/idmws/search/fercgensearch.asp. Enter the docket number excluding the last three digits (P-2150) in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-21968 Filed 9-1-10; 8:45 am]

BILLING CODE 6717-01-P